DEPARTMENT OF DEFENSE

Office of the Secretary; Medal of Honor Flag Design Competition

AGENCY: Office of the Under Secretary of Defense for Personnel and Readiness, DoD.

ACTION: Notice.

SUMMARY: In accordance with Pub. L. 107-248, Section 8143, this notice is published to collect designs from the public for a Medal of Honor Flag. The Medal of Honor is the Nation's highest military award for valor in action against an enemy force, which can be bestowed upon an individual serving in the Armed Forces of the United States. The President shall provide for presentation of the flag to each person to whom a MOH is awarded after the date of this enactment. The Medal of Honor Flag Design Committee is being established in consonance with the public interest. The committee will review and evaluate all designs submitted in response to the provision set by this law.

DATES: Consideration will be given to all designs submitted on or before October 22, 2004.

ADDRESSES: Designs shall be submitted to: Office of the Under Secretary of Defense (Personnel & Readiness), Attention: ODUSD (MPP) (OEPM), 4000 Defense pentagon, Washington, DC 20301-4000.

FOR FURTHER INFORMATION CONTACT: LTC Tim Donohue, (703) 614-2798.

SUPPLEMENTARY INFORMATION: A panel of eight members made up of representatives from each Service (Army, Navy, Marine Corps, Air Force and Coast Guard), one Office of Secretary Defense staff, one historian, and one representative from the Medal of Honor Society, will review and evaluate all designs submitted in response to the provision set by this law. The panel will made a final recommendation on the Medal of Honor Flag to the Principal Deputy to the Under Secretary of Defense for Personnel and Readiness, once the evaluation process has been completed.

Dated: September 1, 2004.
L.M. Bynum,
Alternate OSD Federal Register Liaison Officer, Department of Defense.

[FR Doc. 04-20276 Filed 9-3-04; 8:45 am]

BILLING CODE 5001-06-M